ENVIRONMENTAL PROTECTION AGENCY

[EPA-HQ-SFUND-2013-0549; FRL-9665-01-OMS]

Information Collection Request Submitted to OMB for Review and Approval; Comment Request; Notification of Episodic Releases of Oil and Hazardous Substances (Renewal)

AGENCY: Environmental Protection Agency (EPA).

ACTION: Notice.

SUMMARY: The Environmental Protection Agency (EPA) has submitted an information collection request (ICR), Notification of Episodic Releases of Oil and Hazardous Substances (EPA ICR Number 1049.15, OMB Control Number 2050-0046) to the Office of Management and Budget (OMB) for review and approval in accordance with the Paperwork Reduction Act. Public comments were previously requested via the Federal Register on September 23, 2021 during a 60-day comment period. This notice allows for an additional 30 days for public comment. A fuller description of the ICR is given below including its estimated burden and cost to the public. An agency may not conduct or sponsor and a person is not required to respond to a collection of information unless it displays a currently valid OMB control number.

DATES: Comments must be submitted on or before April 15, 2022.

ADDRESSES: Submit your comments, referencing Docket ID No. EPA-HQ-SFUND-2013-0549, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Wendy Hoffman, Regulations Implementation Division, Office of Emergency Management, Mail Code 5104A, Environmental Protection Agency, 1200 Pennsylvania Ave. NW, Washington, DC 20460; telephone number: (202) 564-8794; email address: hoffman.wendy@epa.gov.

SUPPLEMENTARY INFORMATION: Supporting documents, which explain in detail the information that EPA will be collecting, are available in the public docket for this ICR. The docket can be viewed online at http://www.regulations.gov. For further information about the EPA's public docket, Docket Center services and the current status, please visit us online at https://www.epa.gov/dockets. The telephone number for the Docket Center is 202-566-1744.

Abstract: Section 103(a) of the Comprehensive Environmental Response, Compensation, and Liability Act (CERCLA), as amended, requires the person in charge of a facility or vessel to immediately notify the National Response Center (NRC) of a hazardous substance release into the environment if the amount of the release equals or exceeds the substance's reportable quantity (RQ) limit. The RQs for the hazardous substance can be found in Table 302.4 of 40 CFR 302.4. Section 311 of the Clean Water Act (CWA) as amended, requires the person in charge of a vessel to immediately notify the NRC of an oil spill into U.S. navigable waters if the spill causes a sheen, violates applicable water quality standards, or causes a sludge or emulsion to be deposited beneath the surface of the water or upon adjoining shorelines. The reporting of a hazardous substance release that is at or above the substance's RQ allows the federal government to determine whether a federal response action is required to control or mitigate any potential adverse effects to public health or welfare or the environment. Likewise, the reporting of oil spills allows the federal government to determine whether cleaning up the oil spill is required to mitigate or prevent damage to public health or welfare or the environment. The hazardous substance and oil release information collected under CERCLA section 103(a) and CWA section 311 also is available to EPA program offices and other federal agencies that use the information to evaluate the potential need for additional regulations, new permitting requirements for specific substances or sources, or improved emergency response planning.

Release notification information is stored in EPA's WebEOC, a web-based crisis management system which supports response management for significant incidents and daily operations in the Regional Response Centers and EPA's Headquarters Emergency Operations Center. State and local government authorities and the regulated community use release information for purposes of local emergency response planning. The public has access to release information through the Freedom of Information Act. The public may request release information for purposes of maintaining an awareness of what types of releases are occurring in different localities and what actions, if any, are being taken to protect public health and welfare and the environment.

Form Numbers: None.

Respondents/affected entities: Facilities and vessels that may have releases of any hazardous substances or oil at or above its RQ.

Respondent's obligation to respond: Mandatory under CERCLA section 103 (a).

Estimated number of respondents: 19,450.

Frequency of response: As releases occur from a facility or a vessel.

Total estimated burden: 19,839 hours (per year). Burden is defined at 5 CFR 1320.03(b).

Total estimated cost: $553,337 (per year), which includes no capital or operation and maintenance costs associated with this ICR.

Changes in Estimates: Based on actual NRC release notifications from the previous ICR period, the projected number of annual release notifications in this renewal (19,450) is slightly higher than what EPA projected in the previous ICR (18,447). This resulted in a higher total estimated respondent burden of 19,839 hours for this ICR renewal compared to 18,816 hours in the previous renewal.

Courtney Kerwin,
Director, Regulatory Support Division.

[FR Doc. 2022-05564 Filed 3-15-22; 8:45 am]

BILLING CODE 6560-50-P